LEGAL SERVICES CORPORATION

Sunshine Act Meeting

TIME AND DATE: The Operations and Regulations Committee of the Legal Services Corporation Board of Directors will meet virtually on June 30, 2022. The meeting will commence at 12:00 p.m. EDT, and will continue until the conclusion of the Committee's agenda.

PLACE: Public Notice of Virtual Meetings:

LSC will conduct the June 30, 2022 meeting via Zoom.

Public Observation: Unless otherwise noted herein, the Operations and Regulations Committee meeting will be open to public observation via Zoom. Members of the public who wish to participate remotely in the public proceedings may do so by following the directions provided below.

Directions for Open Session

June 30, 2022

To join the Zoom meeting by computer, please use this link.

• https://lsc-gov.zoom.us/j/82982585279?pwd=aFhQV1VBd2x2Y2ZVUmh0cGF6c0x6UT09&from=addon

○ Meeting ID: 829 8258 5279

○ Passcode: 63022

• To join the Zoom meeting with one tap from your mobile phone, please click dial:

○ +13017158592,,82982585279# US (Washington DC)

○ +16468769923,,82982585279# US (New York)

• To join the Zoom meeting by telephone, please dial one of the following numbers:

○ +1 301 715 8592 US (Washington DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ Meeting ID: 829 8258 5279

○ Passcode: 63022

Once connected to Zoom, please immediately mute your computer or telephone. Members of the public are asked to keep their computers or telephones muted to eliminate background noise. To avoid disrupting the meetings, please refrain from placing the call on hold if doing so will trigger recorded music or other sound.

From time to time, the Operations and Regulations Committee Chair may solicit comments from the public. To participate in the meeting during public comment, use the `raise your hand' or `chat' functions in Zoom and wait to be recognized by the Chair before stating your questions and/or comments.

STATUS: Open.

MATTERS TO BE CONSIDERED:

1. Approval of Agenda

2. Approval of Minutes of the Committee's Open Session Meeting on April 4, 2022

3. Update on Financial Guide

• Corrine Campbell, Fiscal Compliance Analyst, Office of Compliance and Enforcement

• April Jung, Fiscal Compliance Analyst, Office of Compliance and Enforcement

4. Consider and Act on 2022-2023 Regulatory Agenda

• Stefanie Davis, Senior Associate General Counsel for Regulations and Ethics Officer, Office of Legal Affairs

5. Public Comment

6. Consider and Act on Other Business

7. Consider and Act on Adjournment of Meeting

CONTACT PERSON FOR MORE INFORMATION: Kaitlin Brown, Executive and Board Project Coordinator, at (202) 295-1555. Questions may also be sent by electronic mail to brownk@lsc.gov.

Non-Confidential Meeting Materials: Non-confidential meeting materials will be made available in electronic format at least 24 hours in advance of the meeting on the LSC website, at https://www.lsc.gov/about-lsc/board-meeting-materials.

Dated: June 21, 2022,
Kaitlin D. Brown,
Executive and Board Project Coordinator, Legal Services Corporation.

[FR Doc. 2022-13585 Filed 6-21-22; 4:15 pm]

BILLING CODE 7050-01-P